DEPARTMENT OF AGRICULTURE

Animal and Plant Health Inspection Service

[Docket No. APHIS-2016-0038]

Notice of Availability of an Evaluation of the Classical Swine Fever Status of Mexico

AGENCY: Animal and Plant Health Inspection Service, USDA.

ACTION: Notice of availability.

SUMMARY: We are advising the public that we are proposing to recognize Mexico as free of classical swine fever, subject to conditions in the regulations governing the importation of live swine, pork, and pork products from certain regions into the United States. We are proposing this action based on a risk evaluation that we have prepared in connection with this action and that we are making available to the public for review and comment.

DATES: We will consider all comments that we receive on or before October 10, 2017.

ADDRESSES: You may submit comments by either of the following methods:

• Federal eRulemaking Portal: Go to http://www.regulations.gov/#!docketDetail;D=APHIS-2016-0038.

• Postal Mail/Commercial Delivery: Send your comment to Docket No. APHIS-2016-0038, Regulatory Analysis and Development, PPD, APHIS, Station 3A-03.8, 4700 River Road Unit 118, Riverdale, MD 20737-1238.

Supporting documents and any comments we receive on this docket may be viewed at http://www.regulations.gov/#!docketDetail;D=APHIS-2016-0038 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Chip Wells, Senior Staff Veterinarian, Regionalization Evaluation Services, National Import Export Services, VS, APHIS, USDA, 4700 River Road, Unit 38, Riverdale, MD 20737-1231; Chip.J.Wells@aphis.usda.gov; (301) 851-3317.

SUPPLEMENTARY INFORMATION: The Animal and Plant Health Inspection Service (APHIS) of the United States Department of Agriculture (USDA) regulates the importation of animals and animal products into the United States to guard against the introduction of animal diseases not currently present or prevalent in this country. The regulations in 9 CFR part 94 (referred to below as the regulations) prohibit or restrict the importation of specified animals and animal products to prevent the introduction into the United States of various animal diseases, including classical swine fever (CSF), foot-and-mouth disease, swine vesicular disease, and rinderpest. These are dangerous and communicable diseases of ruminants and swine.

APHIS currently recognizes nine Mexican States as free of CSF: Baja California, Baja California Sur, Campeche, Chihuahua, Nayarit, Quintana Roo, Sinaloa, Sonora, and Yucatan. Because of the proximity of those nine States to CSF-affected regions and/or other risk factors, however, their live swine, pork, and pork products may only be imported into the United States under the conditions specified in § 94.32. These conditions include, among others, a requirement for certification by a full-time salaried veterinary officer of the national government of the region of export that the pork or pork products originated in a CSF-free region, requirements that the pork or pork products be derived only from swine that were born and raised in such a region and never lived in a CSF-affected region, a prohibition against the comingling of the pork or pork products with pork or pork products that have been in an affected region, and a requirement that any processing of the pork or pork products be done in a federally inspected processing plant in a CSF-free region.

The regulations in 9 CFR part 92, § 92.2, contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

Between 2007 and 2009, the Government of Mexico submitted a series of requests to APHIS seeking recognition of additional States as CSF-free. The last of those requests, submitted in January 2009, after the Government of Mexico had declared that CSF had been eradicated in the country, was for APHIS to recognize all of Mexico as CSF-free.

In response to these requests, we conducted a qualitative risk evaluation to evaluate the CSF status of the Mexican States not already recognized by APHIS as CSF-free. This evaluation included site visits to farms and diagnostic laboratories, as well as examinations of Mexico's capabilities with respect to veterinary control and oversight, disease history and vaccination, livestock demographics and traceability, epidemiological separation from potential sources of infection, disease surveillance, diagnostic laboratory capabilities, and emergency preparedness and response. The resulting risk evaluation document, “APHIS Evaluation of the CSF Status of a Region in Mexico” (referred to below as the “2013 risk evaluation”), did not support CSF-free recognition of all of Mexico; however, it did support access to the U.S. domestic market under certain risk-mitigating conditions.

Based on the findings of the 2013 risk evaluation, on July 29, 2014, we published in the Federal Register (79 FR 43974-43980, Docket No. APHIS-2013-0061) a proposal ¹ to amend the regulations by recognizing a new APHIS-defined low-risk CSF region consisting of all Mexican States except the nine CSF-free States and the State of Chiapas, which we did not recognize as CSF-free.

¹ To view the 2013 risk evaluation, the proposed rule, and the comments we received, go to http://www.regulations.gov/#!docketDetail;D=APHIS-2013-0061.

In February 2015, Mexico received notice that the World Organization for Animal Health (OIE) recognized the country as CSF-free. Citing the OIE decision, the Government of Mexico then requested that APHIS suspend its rulemaking and instead continue evaluating Mexico for CSF-free status.

In response to this request, APHIS reopened its evaluation of the CSF status of Mexico. This reevaluation incorporated findings from a 2015 APHIS site visit report, along with updated surveillance data and information submitted by Mexico. These findings are documented in an April 2016 addendum to the 2013 risk evaluation.

Based on improved conditions observed through the end of 2015, APHIS has determined that concerns identified in the 2013 risk evaluation that had supported the July 2014 proposed rule have been addressed and that conditions now support CSF-free recognition for all of Mexico. Additionally, our determinations support including the entire country of Mexico on the Web-based list ² of regions that are considered to be free of CSF but from which live swine, pork, and pork products may only be imported into the United States under the conditions specified in § 94.32. As stated in the April 2016 addendum to the 2013 risk evaluation, we consider the risk of the introduction of CSF into the United States via the importation of live swine, pork, and pork products from Mexico to be very low. We would note, however, that this determination applies only to Mexico's CSF status and that any existing restrictions on the importation of live swine, pork, and pork products from that country into the United States due to other animal diseases will remain in place.

² The list is located on the APHIS Web site at: https://www.aphis.usda.gov/aphis/ourfocus/animalhealth/animal-and-animal-product-import-information/import-live-animals/ct_classical_swine_fever_information.

Therefore, in accordance with § 92.2(e), we are announcing the availability of our updated risk evaluation of the CSF status of Mexico for public review and comment. The risk evaluation may be viewed on the Regulations.gov Web site or in our reading room. (Instructions for accessing Regulations.gov and information on the location and hours of the reading room are provided under the heading ADDRESSES at the beginning of this notice.)

Information submitted in support of Mexico's request is available by contacting the person listed under FOR FURTHER INFORMATION CONTACT.

After reviewing any comments we receive, we will announce our decision regarding the CSF status of Mexico and the import status of live swine, pork, and pork products from that country in a subsequent notice.

Authority: 7 U.S.C. 450, 7701-7772, 7781-7786, and 8301-8317; 21 U.S.C. 136 and 136a; 31 U.S.C. 9701; 7 CFR 2.22, 2.80, and 371.4.

Done in Washington, DC, this 2nd day of August 2017.
Michael C. Gregoire,
Acting Administrator, Animal and Plant Health Inspection Service.

[FR Doc. 2017-16675 Filed 8-7-17; 8:45 am]

BILLING CODE 3410-34-P